DEPARTMENT OF TRANSPORTATION

Federal Aviation Administration

Final Policy Statement, Propeller Testing Vd Versus VNE, PS-ACE100-2002-008

AGENCY: Federal Aviation Administration (FAA), DOT.

ACTION: Notice of issuance of policy.

SUMMARY: This notice announces the issuance of policy PS-ACE100-2002-008, Final Policy Statement, Propeller Testing Vd Versus VNE. The purpose of this policy statement is to clarify the flight testing requirements for vibration and flutter when a different propeller is installed on an aircraft. The installation of a different propeller model, whether by supplemental, amended, or new type certification, is a significant design change, as defined in Order 8100.5, chapter 1, paragraph 103, subparagraph j, section 2 f:

DATES: PS-ACE100-2002-008 was issued by the Acting Manager of the Small Airplane Directorate on July 23, 2003.

How to Obtain Copies: A paper copy of the policy PS-ACE100-2002-008 may be obtained by contacting Mr. Pete Rouse, (816) 329-4135 Small Airplane Directorate, Standards Office (ACE-110), Aircraft Certification Office, Federal Aviation Administration, 901 Locust, Room 301, Kansas City, MO 64106, or by faxing your request to (816) 329-4090. The policy will also be available on the Internet at http://www.airweb.faa.gov/policy.

Issued in Kansas City, Missouri on August 15, 2003.
Diane K. Malone,
Acting Manager, Small Airplane Directorate, Aircraft Certification Service.

[FR Doc. 03-22210 Filed 8-29-03; 8:45 am]

BILLING CODE 4910-13-P